DEPARTMENT OF HOMELAND SECURITY

Federal Emergency Management Agency

44 CFR Part 67

[Docket ID FEMA-2010-0003; Internal Agency Docket No. FEMA-B-1147]

Proposed Flood Elevation Determinations

AGENCY: Federal Emergency Management Agency, DHS.

ACTION: Proposed rule; correction.

SUMMARY: On October 5, 2010, FEMA published in the Federal Register a proposed rule that included erroneous Base Flood Elevation (BFE) location descriptions for Pollard Creek Tributary No. 5 in Palo Pinto County, Texas. The location description for the proposed BFE of 1,032 feet, referenced to the North American Vertical Datum of 1988, should have located the proposed BFE as being just upstream of Northeast 23rd Street; and the location description for the proposed BFE of 1,049 feet, referenced to the North American Vertical Datum of 1988, should have located the proposed BFE as being approximately 850 feet upstream of Northeast 23rd Street.

DATES: Comments pertaining to the location descriptions for the Pollard Creek Tributary No. 5 BFEs are to be submitted on or before June 14, 2011.

ADDRESSES: You may submit comments, identified by Docket No. FEMA-B-1147, to Luis Rodriguez, Chief, Engineering Management Branch, Federal Insurance and Mitigation Administration, Federal Emergency Management Agency, 500 C Street, SW., Washington, DC 20472, (202) 646-4064 or (e-mail) luis.rodriguez1@dhs.gov.

FOR FURTHER INFORMATION CONTACT: Luis Rodriguez, Chief, Engineering Management Branch, Federal Insurance and Mitigation Administration, Federal Emergency Management Agency, 500 C Street SW., Washington, DC 20472, (202) 646-4064 or (e-mail) rodriguez1@dhs.gov.

SUPPLEMENTARY INFORMATION: The Federal Emergency Management Agency (FEMA) publishes proposed determinations of Base (1% annual-chance) Flood Elevations (BFEs) and modified BFEs for communities participating in the National Flood Insurance Program (NFIP), in accordance with section 110 of the Flood Disaster Protection Act of 1973, 42 U.S.C. 4104, and 44 CFR 67.4(a).

These proposed BFEs and modified BFEs, together with the floodplain management criteria required by 44 CFR 60.3, are minimum requirements. They should not be construed to mean that the community must change any existing ordinances that are more stringent in their floodplain management requirements. The community may at any time enact stricter requirements of its own or pursuant to policies established by other Federal, State, or regional entities. These proposed elevations are used to meet the floodplain management requirements of the NFIP and also are used to calculate the appropriate flood insurance premium rates for new buildings built after these elevations are made final, and for the contents in those buildings.

Correction

In the proposed rule published at 75 FR 61377, in the October 5, 2010, issue of the Federal Register, FEMA published a table under the authority of 44 CFR 67.4. The table, entitled “Palo Pinto County, Texas, and Incorporated Areas” addressed the flooding source Pollard Creek Tributary No. 5.

The proposed rule listed the location description for the proposed BFE of 1,032 feet, referenced to the North American Vertical Datum of 1988, as being approximately 850 feet upstream of 23rd Street. The correct location of this proposed BFE is just upstream of Northeast 23rd Street. The proposed rule also listed the location description for the proposed BFE of 1,049 feet, referenced to the North American Vertical Datum of 1988, as being just upstream of 23rd Street Northeast. The correct location of this proposed BFE is approximately 850 feet upstream of 23rd Street.

This proposed rule correction is reopening the comment period for Pollard Creek Tributary No. 5, for the locations of the proposed BFEs of 1,032 feet and 1,049 feet, both referenced to the North American Vertical Datum of 1988, due to the error in listing the location descriptions for these BFEs in the previously published proposed rule at 75 FR 61377.

(Catalog of Federal Domestic Assistance No. 97.022, “Flood Insurance.”)

Dated: March 7, 2011.
Sandra K. Knight,
Deputy Federal Insurance and Mitigation Administrator, Mitigation, Department of Homeland Security, Federal Emergency Management Agency.

[FR Doc. 2011-6059 Filed 3-15-11; 8:45 am]

BILLING CODE 9110-12-P